FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

A.I.B. Internacional, LLC (NVO & OFF), 7429 NW 48th Street, Miami, FL 33166. Officers: Cintia Altheman, Managing Member (Qualifying Individual). Cristiano de Lima, Managing Member. Application Type: New NVO & OFF License.

American Guardship, LLC (NVO & OFF), 6679 Santa Barbara Road, #J, Elkridge, MD 21075. Officers: Sylvanus Taylor, President (Qualifying Individual). Olabisi Taylor, Resident Agent. Application Type: New NVO & OFF License.

American Red Ball International, Inc. (NVO & OFF), 9750 3rd Avenue NE., #200, Seattle, WA 98115. Officers: James A. Gaw, Vice President/General Manager (Qualifying Individual). John P. Griffin, President. Application Type: QI Change.

American Vanpac Carriers, Inc. (NVO & OFF), 9750 3rd Avenue NE., #200, Seattle, WA 98115. Officers: James A. Gaw, Vice President/General Manager (Qualifying Individual). John P. Griffin, President. Application Type: QI Change.

Atlas Van Lines International Corp. (NVO & OFF), 9750 3rd Avenue NE., #200, Seattle, WA 98115. Officers: James A. Gaw, Vice President/General Manager (Qualifying Individual). John P. Griffin, President. Application Type: QI Change.

Clover Internacional, LLC dba Clover Marine (NVO & OFF), 15700 International Plaza Dr., Ste. 100, Houston, TX 77032. Officers: Juan C. Castillo, Special Secretary (Qualifying Individual). Luis Angel Rincon, Manager. Application Type: Business Structure Change and Add NVO Service.

Dix McGuire International, Inc. (NVO & OFF), 624 E. Carpenter Drive, Pal, IL 60074. Officers: Robert E. Cleary, President (Qualifying Individual). Racheal L. Koza, Secretary. Application Type: New NVO & OFF License.

Global Distribution & Logistics LLC (NVO & OFF), 7977 NW 21st Street, Miami, FL 33122. Officers: Jose L. Matus, Manager (Qualifying Individual). Alejandro A. Vimos, Manager. Application Type: New NVO & OFF License.

Global Vision Group, Inc. (NVO & OFF), 2088 Salisbury Highway, Statesville, NC 28687, Officers: Edward J. Hathaway, Vice President—Business Development (Qualifying Individual). Jeff Harvey, President/Treasurer. Application Type: New NVO & OFF License.

Icon Logistics Services LLC (NVO), 14440 Cherry Lane Ct., #105, Laurel, MD 20707. Officers: Doreen Oloo-Dale, General Counsel (Qualifying Individual). Gbenga Vinusa, President. Application Type: New NVO License.

Javelin Logistics Corporation (NVO & OFF), 7447 Morton Avenue, Newark, CA 94560, Officers: Sandra K. Thoroughman, Director International Operations (Qualifying Individual). Malcolm Winspear, President/CFO. Application Type: Name Change.

Kelvin Logistics, Inc. (NVO & OFF), 23436 Anza Avenue, #A, Torrance, CA 90505. Officer: Kaehong Park, President/Secretary/Treasurer/CFO (Qualifying Individual). Application Type: New NVO & OFF License.

North American Cargo Solutions Inc. (NVO), 5200 Dixie Road, #14, Mississauga, Ontario, L4W 1E4, Canada. Officers: Stephen R. Halder, Vice President (Qualifying Individual). Valerio Shaha, Director/Vice President. Application Type: New NVO License.

Pine Logistics Corp. (NVO & OFF), 5 Sabbatia Ln., Billerica, MA 01821. Officers: Leonardo P. Albuquerque, President/CEO/Director (Qualifying Individual). Carolina M. Albuquerque, Treasurer/Secretary. Application Type: New NVO & OFF License.

Sasco America, Inc (NVO & OFF), 219 First Avenue South, Suite 401, Seattle, WA 98104. Officers: Ralf T. Bremsner, Vice President/Secretary/Treasurer (Qualifying Individual). Sergey Kozlov, Director/President. Application Type: New NVO & OFF License.

Transmarine Shipping, Inc. (NVO & OFF), 11222 S. La Cienega Blvd., #252, Inglewood, CA 90394. Officer: Shuigen Luo, President/Secretary/Chief Financial Officer (Qualifying Individual). Application Type: New NVO & OFF License.

Universal Shippers Group USA, LLC (NVO & OFF), 1077A Fred Drive, #A, Morrow, GA 30260. Officers: Alfred A. M. Khannu, General Manager (Qualifying Individual). Hawanatu B. Scott, President. Application Type: New NVO & OFF License.

Valueway Global Logistics Inc. (NVO), 104 S. Central Avenue, Room 2, Valley Stream, NY 11580. Officers: Ke Zhou, Vice President (Qualifying Individual). Qian Xie, Director/President/Secretary/Treasurer. Application Type: QI Change.

Dated: April 6, 2012.
Karen V. Gregory,
Secretary.

[FR Doc. 2012-8598 Filed 4-9-12; 8:45 am]

BILLING CODE 6730-01-P